DEPARTMENT OF HOMELAND SECURITY

U.S. Customs and Border Protection

Accreditation and Approval of Camin Cargo Control, Inc., as a Commercial Gauger and Laboratory

AGENCY: U.S. Customs and Border Protection, Department of Homeland Security.

ACTION: Notice of accreditation and approval of Camin Cargo Control, Inc., as a commercial gauger and laboratory.

SUMMARY: Notice is hereby given, pursuant to CBP regulations, that Camin Cargo Control, Inc., has been approved to gauge and accredited to test petroleum and certain petroleum products for customs purposes for the next three years as of May 26, 2016.

DATES: The accreditation and approval of Camin Cargo Control, Inc., as commercial gauger and laboratory became effective on May 26, 2016. The next triennial inspection date will be scheduled for May 2019.

FOR FURTHER INFORMATION CONTACT: Approved Gauger and Accredited Laboratories Manager, Laboratories and Scientific Services Directorate, U.S. Customs and Border Protection, 1300 Pennsylvania Avenue NW., Suite 1500N, Washington, DC 20229, tel. 202-344-1060.

SUPPLEMENTARY INFORMATION: Notice is hereby given pursuant to 19 CFR 151.12 and 19 CFR 151.13, that Camin Cargo Control, Inc., 31 Fulton St. Unit A, New Haven, CT 06513, has been approved to gauge and accredited to test petroleum and certain petroleum products for customs purposes, in accordance with the provisions of 19 CFR 151.12 and 19 CFR 151.13. Camin Cargo Control, Inc., is approved for the following gauging procedures for petroleum and certain petroleum products set forth by the American Petroleum Institute (API):

API chapters | Title
1 | Vocabulary.
3 | Tank gauging.
7 | Temperature Determination.
8 | Sampling.
11 | Physical Properties Data.
12 | Calculations.
17 | Maritime Measurements.

Camin Cargo Control, Inc., is accredited for the following laboratory analysis procedures and methods for petroleum and certain petroleum products set forth by the U.S. Customs and Border Protection Laboratory Methods (CBPL) and American Society for Testing and Materials (ASTM):

CBPL No. | ASTM | Title
27-01 | D287 | Standard Test Method for API Gravity of crude Petroleum and Petroleum Products
27-08 | D86 | Standard Test Method for Distillation of Petroleum Products
27-11 | D445 | Standard Test Method for Kinematic Viscosity of Transparent and Opaque Liquids
27-13 | D4294 | Standard Test Method for Sulfur in Petroleum and Petroleum Products by Energy-Dispersive X-ray Fluorescence Spectrometry
27-20 | D4057 | Standard Practice for Manual Sampling of Petroleum and Petroleum Products
27-48 | D4052 | Standard Test Method for Density and Relative Density of Liquids by Digital Density Meter
27-50 | D93 | Standard Test Methods for Flash-Point by Pensky-Martens Closed Cup Tester
27-53 | D2709 | Standard Test Method for Water and Sediment in Middle Distillate Fuels by Centrifuge
27-54 | D1796 | Standard Test Method for Water and Sediment in Fuel Oils by the Centrifuge Method
27-58 | D5191 | Standard Test Method For Vapor Pressure of Petroleum Products (Mini Method)
N/A | D97 | Standard Test Method for Pour Point of Petroleum Products
N/A | D130 | Standard Test Method for Corrosiveness to Copper from Petroleum Products by Copper Strip Test
N/A | D482 | Standard Test Method for Ash from Petroleum Products
N/A | D524 | Standard Test Method for Ramsbottom Carbon Residue of Petroleum Products
N/A | D1319 | Standard Test Method for Hydrocarbon Types in Liquid Petroleum Products by Fluorescent Indicator Adsorption
N/A | D2500 | Standard Test Method for Cloud Point of Petroleum Products
N/A | D2624 | Standard Test Methods for Electrical Conductivity of Aviation and Distillate Fuels
N/A | D3606 | Standard Test Method for Determination of Benzene, Toluene, Ethylbenzene, p/m-Xylene, o-Xylene, C9 and Heavier Aromatics, and Total Aromatics in Finished Gasoline by Gas Chromatography
N/A | D4815 | Standard Test Method for Determination of MTBE, ETBE, TAME, DIPE, tertiary-Amyl Alcohol and C1 to C4 Alcohols in Gasoline by Gas Chromatography
N/A | D5453 | Standard Test Method for Determination of Total Sulfur in Light Hydrocarbons, Spark Ignition Engine Fuel, Diesel Engine Fuel, and Engine Oil by Ultraviolet Fluorescence

Anyone wishing to employ this entity to conduct laboratory analyses and gauger services should request and receive written assurances from the entity that it is accredited or approved by the U.S. Customs and Border Protection to conduct the specific test or gauger service requested. Alternatively, inquiries regarding the specific test or gauger service this entity is accredited or approved to perform may be directed to the U.S. Customs and Border Protection by calling (202) 344-1060. The inquiry may also be sent to cbp.labhq@dhs.gov. Please reference the Web site listed below for the current CBP Approved Gaugers and Accredited Laboratories List. http://www.cbp.gov/about/labs-scientific/commercial-gaugers-and-laboratories.

Dated: March 14, 2017.
Ira S. Reese,
Executive Director, Laboratories and Scientific Services Directorate.

[FR Doc. 2017-05458 Filed 3-17-17; 8:45 am]

BILLING CODE 9111-14-P